UTAH RECLAMATION MITIGATION AND CONSERVATION COMMISSION

Notice of Intent To Prepare an Environmental Impact Statement for Constructing a Warm-Water Sportfish and Native Aquatic Species Hatchery in Millard County, Utah

AGENCY: The Utah Reclamation Mitigation and Conservation Commission.

ACTION: Notice of intent to conduct scoping and prepare an Environmental Impact Statement (EIS).

SUMMARY: The Utah Reclamation Mitigation and Conservation Commission with cooperating agencies: Utah Division of Wildlife Resources, U.S. Department of the Interior, Office of the Secretary, U. S. Bureau of Land Management (BLM), and U. S. Fish and Wildlife Service will prepare an EIS on a proposal to construct a warm-water sportfish and native aquatic species hatchery near Gandy Warm Springs in Millard County, Utah. The site is located on federal land managed by the BLM. The BLM intends to use this Notice of Intent and EIS for their Record of Decision for any required land transaction.

Species to be propagated include the channel catfish, June sucker, least chub, leatherside chub, roundtail chub, boreal toad, and spotted frog.

Facilities to be constructed include: water systems—control structures, supply/drain lines, effluent treatment; rearing facilities—earthen, concrete and plastic ponds, raceways or tanks; buildings—hatchery/lab/office, shop, service/storage, residences, visitors' facilities.

The Central Utah Project Completion Act of 1992 (Act) authorized funding to improve existing hatchery facilities or construct new ones to increase production of warm water and cold water fish for the areas affected by the Colorado River Storage Project (CRSP) in Utah. In compliance with the Act, a Fish Hatchery Production Plan (Plan) and Environmental Assessment (EA) on the Plan were completed in 1995. The Plan was revised in 1998 based on updated information. The Plan identifies long-term warm water sport-fish and native aquatic species stocking needs for meeting management objectives in CRSP-affected area waters, and recommends construction of a warm water hatchery. The Mitigation Commission accepted the revised Plan, and issued a Finding of No Significant Impact on implementation of the Plan.

Three possible alternatives have been identified: 1. No Action—build no facility; 2. Use an existing hatchery facility; and 3. Construct a new facility at the Gandy Warm Springs site (proposed action).

The No Action Alternative would be no new construction, but the use of a small, existing warm-water culture effort. The Existing Hatchery System Alternative would be an evaluation of a facility or facilities within the existing hatchery system for possible improvements for warm-water culture.

The Proposed Action Alternative would be the new facility construction at the Gandy Warm Springs site, Millard County, Utah. It would include a land transaction by the BLM under the Recreation and Public Purposes Act (68 Statute 173; 43 USC 869 et seq.).

DATES: 1. Submit scoping comments on or before November 10, 2000.

2. An open house will be held October 30, 2000, 6 to 9 p.m., local time.

ADDRESSES: 1. Address all comments to Maureen Wilson, Project Coordinator, Utah Reclamation Mitigation and Conservation Commission, 102 West 500 South, #315, Salt Lake City, Utah 84101. Submit electronic comments to mwilson@uc.usbr.gov.

2. The open house location is the Community Center in Baker, Nevada 89311

FOR FURTHER INFORMATION CONTACT: Maureen Wilson, 801-524-3146.

SUPPLEMENTARY INFORMATION: An initial scoping was completed in May, 2000. Over 160 scoping notices were mailed or posted. A public meeting was held in Trout Creek, in Millard Co. on May 25, 2000. Responses from 27 individuals and agencies were received.

Issues identified to date include: escapement of exotic species, site-specific construction impacts, protection of existing water rights, quality of hatchery effluent discharge, impact on historical and recreational use of the area.

Comments should address environmental issues to be considered, feasible alternatives to examine, possible mitigation, and information relevant to the Proposed Action. A public meeting will be held in Baker, Nevada during this scoping period.

It is important that comments be received by the close of the formal scoping period so they can be considered in a meaningful manner in the draft EIS.

Tentative Project Schedule: Begin comment period: May 2000; Scoping and Issue Identification Period Ends: November 2000; Draft EIS: October 2001; Final EIS and Record of Decision: January 2002.

Dated: October 3, 2000.
Michael C. Weland,
Executive Director.

[FR Doc. 00-26471 Filed 10-13-00; 8:45 am]

BILLING CODE 4310-05-U